INTERNATIONAL TRADE COMMISSION

[Investigation Nos. 731-TA-1578-1579 (Final)]

Lemon Juice From Brazil and South Africa; Revised Schedule for the Subject Investigations

AGENCY: United States International Trade Commission.

ACTION: Notice.

DATES: September 22, 2022.

FOR FURTHER INFORMATION CONTACT: Stamen Borisson (202-205-3125), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On July 28, 2022, the Commission established a schedule for the conduct of the final phase of the subject investigations (87 FR 51701, August 23, 2022) as a result of affirmative preliminary determinations by the Department of Commerce (“Commerce”) regarding imports of lemon juice from Brazil and South Africa. Commerce had extended the date for its final determination with respect to Brazil but not for South Africa. Subsequently, Commerce extended the date for its final determination in the investigation of South Africa from October 11, 2022, to December 19, 2022 (87 FR 56631, September 15, 2022). The Commission, therefore, is revising its schedule to conform with Commerce's new schedule. The Commission also gives notice that the hearing in connection with the final phase of these investigations will not be held on October 11 but instead will be held in-person at the U.S. International Trade Commission Building beginning at 9:30 a.m. on December 15, 2022.

The Commission's revised dates in the schedule are as follows: the prehearing staff report will be placed in the nonpublic record on November 30, 2022; the deadline for filing prehearing briefs is December 7, 2022; requests to appear at the hearing must be filed with the Secretary to the Commission not later than December 9, 2022; the prehearing conference will be held at the U.S. International Trade Commission Building on December 9, 2022, if deemed necessary; the hearing will be held at the U.S. International Trade Commission Building at 9:30 a.m. on December 15, 2022; the deadline for filing posthearing briefs is December 22, 2022; the Commission will make its final release of information on January 13, 2023; and final party comments are due on January 18, 2023.

Hearing.—The Commission will hold an in-person hearing in connection with the final phase of these investigations at the U.S. International Trade Commission Building beginning at 9:30 a.m. on December 15, 2022. Requests to appear at the hearing should be filed in writing with the Secretary to the Commission on or before December 9, 2022. Any requests to appear as a witness via videoconference must be included with your request to appear. Requests to appear via videoconference must include a statement explaining why the witness cannot appear in person; the Chairman, or other person designated to conduct the investigations, may in their discretion for good cause shown, grant such a request. Requests to appear as remote witness due to illness or a positive COVID-19 test result may be submitted by 3 p.m. the business day prior to the hearing. Further information about participation in the hearing will be posted on the Commission's website at https://www.usitc.gov/calendarpad/calendar.html.

A nonparty who has testimony that may aid the Commission's deliberations may request permission to present a short statement at the hearing. All parties and nonparties desiring to appear at the hearing and make oral presentations should attend a prehearing conference to be held at 9:30 a.m. on December 9, 2022, if deemed necessary. Parties shall file and serve written testimony and presentation slides in connection with their presentation at the hearing by no later than 4:00 p.m. on December 14, 2022. Oral testimony and written materials to be submitted with respect for the public hearing are governed by sections 201.6(b)(2), 201.13(f), and 207.24 of the Commission's rules. Parties must submit any request to present a portion of their hearing testimony in camera no later than 7 business days prior to the date of the hearing.

Written submissions.—Each party who is an interested party shall submit a prehearing brief to the Commission. Prehearing briefs must conform with the provisions of § 207.23 of the Commission's rules; the deadline for filing is December 7, 2022. Parties shall also file written testimony in connection with their presentation at the hearing, and posthearing briefs, which must conform with the provisions of section 207.25 of the Commission's rules. The deadline for filing posthearing briefs is December 22, 2022. In addition, any person who has not entered an appearance as a party to the investigations may submit a written statement of information pertinent to the subject of the investigations, including statements of support or opposition to the petitions, on or before December 22, 2022. On January 13, 2023, the Commission will make available to parties all information on which they have not had an opportunity to comment. Parties may submit final comments on this information on or before January 18, 2023, but such final comments must not contain new factual information and must otherwise comply with § 207.30 of the Commission's rules. All written submissions must conform with the provisions of § 201.8 of the Commission's rules; any submissions that contain BPI must also conform with the requirements of §§ 201.6, 207.3, and 207.7 of the Commission's rules. The Commission's Handbook on Filing Procedures, available on the Commission's website at https://www.usitc.gov/documents/handbook_on_filing_procedures.pdf, elaborates upon the Commission's procedures with respect to filings.

Additional written submissions to the Commission, including requests pursuant to § 201.12 of the Commission's rules, shall not be accepted unless good cause is shown for accepting such submissions, or unless the submission is pursuant to a specific request by a Commissioner or Commission staff.

In accordance with §§ 201.16(c) and 207.3 of the Commission's rules, each document filed by a party to the investigations must be served on all other parties to the investigations (as identified by either the public or BPI service list), and a certificate of service must be timely filed. The Secretary will not accept a document for filing without a certificate of service.

For further information concerning this proceeding see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: September 22, 2022.
Katherine Hiner,
Acting Secretary to the Commission.

[FR Doc. 2022-20913 Filed 9-27-22; 8:45 am]

BILLING CODE 7020-02-P